DEPARTMENT OF THE INTERIOR

Fish and Wildlife Service

[FWS-R7-NWRS-2022-N078; FF07R0200-FXRS12610700000-234]

Environmental Assessment for a Right-of-Way Application on the Arctic National Wildlife Refuge; Extension of Time for Completion

AGENCY: Fish and Wildlife Service, Interior.

ACTION: Notice.

SUMMARY: In compliance with the National Environmental Policy Act and the Alaska National Interest Lands Conservation Act, we, the U.S. Fish and Wildlife Service, are preparing an environmental assessment for a wintertime access to inholdings right-of-way (ROW) application that we have received from Kaktovik Inupiat Corporation. The application is for an ROW across the Arctic National Wildlife Refuge. Due to the complexity of the project, we are announcing our need to extend the timeframe for completing the EA.

FOR FURTHER INFORMATION CONTACT: Brian Glaspell, Chief, National Wildlife Refuge System in Alaska, Alaska Regional Office, by email at FW7_ArcticNWR_KIC_ROW_NEPA@fws.gov; by U.S. mail at 1011 East Tudor Road, Anchorage, AK 99503; or by telephone at 907-786-3584. Information about the applicant's proposal is also available at https://www.fws.gov/refuge/arctic. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In compliance with the National Environmental Policy Act of 1969, as amended (NEPA 42 U.S.C. 4321 et seq.), and the Alaska National Interest Lands Conservation Act (ANILCA; 16 U.S.C 3111-3126), we, the U.S. Fish and Wildlife Service (Service), are preparing an environmental assessment (EA) for a wintertime access to inholdings right-of-way (ROW) application submitted by Kaktovik Inupiat Corporation (KIC). Submitted under section 1110(b) of ANILCA, the application is for a 20-year ROW across the lands and waters of the Arctic National Wildlife Refuge (Refuge) between KIC lands located within the Refuge and the land-based winter transportation network west of the Refuge's western boundary. Due to the complexity of the project, we announce via this notice that we need to extend the timeframe for completing the EA.

Applicant's Proposed Activities

The applicant has identified the following initial items for transport over the ROW during the term of the desired ROW permit, including but not limited to the following:

• Permanent school modules for Kaktovik and other building modules;

• Bi-directional movement of community vehicles;

• Diesel fuel, using double-walled fuel tanks, for the community powerplant; and

• Other consumables, as identified by the community.

The number of round trips would vary year to year, depending on community needs. All products would be transported across the proposed winter overland trail on Rolligon vehicles, which exert low ground pressure. For detailed information regarding KIC's application, please go to https://www.fws.gov/refuge/arctic.

Purpose and Need for the Proposed Action

The purpose of the proposed action is to assure adequate and feasible access (to the extent it does not already exist) for economic and other purposes to KIC's inholdings within the Refuge while protecting the natural and other values of the Refuge. The need for the proposed action is established by KIC's application for an ROW pursuant to title XI, section 1110(b) of ANICLA and the Department's implementing regulations at 43 CFR part 36.

Potential Affected Resources

Based on the proposed route and methods identified by KIC in their ROW application (https://www.fws.gov/refuge/arctic), the Service has identified the following potentially affected resources:

• Polar bears and their critical habitat;

• Cultural and paleontological resources;

• Tundra, soils, permafrost, stream banks, and coastal banks;

• Proposed wilderness and wilderness character;

• Central Arctic and Porcupine caribou herds;

• Water;

• Public safety;

• Viewshed;

• Soundscape;

• Shorebirds and other avian species;

• The Hula Hula River (proposed by the Service as a wild and scenic river under the National Wild and Scenic Rivers System Act (Pub. L. 90-542; 16 U.S.C. 1271 et seq.));

• Other marine mammal species in the vicinity of the project area;

• Other threatened and endangered species;

• Socioeconomics of the Kaktovik community; and

• Subsistence uses.

Next Steps

The Service received the complete application from KIC on December 21, 2021. Although departmental regulations in 43 CFR part 36 state that an EA or a draft environmental impact statement shall be completed within 9 months after the application filing date, those regulations allow for a longer time period if the lead agency determines, for good cause, that the 9-month period is insufficient. Due to the complexity of the project, the Service needs to extend the completion date for the EA. The Service will complete the draft EA by September 2023. Upon completion, the Service will make the draft EA available on the Refuge's website (https://www.fws.gov/refuge/arctic) for a 45-day public comment period. Within 90 days after the draft EA comment period closing date, the Service will either prepare a final EA (and, if appropriate, a finding of no significant impact), or will commence development of an environmental impact statement.

Sara Boario,
Regional Director, Alaska Region.

[FR Doc. 2023-02666 Filed 2-7-23; 8:45 am]

BILLING CODE 4333-15-P